DEPARTMENT OF TRANSPORTATION

Maritime Administration

46 CFR Part 221

[Docket No. MARAD-2001-10256]

RIN 2133-AB44

Denial of Vessel Transfer to Foreign Registry Upon Revocation of Fishery Endorsement

AGENCY: Maritime Administration, Transportation.

ACTION: Final rule.

SUMMARY: The Maritime Administration (MARAD, we, our, or us) is amending regulation to state that approvals will not be granted for the transfer of a Fishing Vessel, Fish Processing Vessel, or Fish Tender Vessel to a foreign registry or operation under authority of a foreign country when the vessel's fishery endorsement has been revoked as a result of the fishing capacity reduction program for crab fisheries established by the Secretary of Commerce. Pub. L. 106-554 requires that the Secretary of Transportation shall refuse to grant the approval required under section 9(c)(2) of the Shipping Act of 1916 for the placement of a Fishing Vessel, Fish Processing Vessel, or Fish Tender Vessel under foreign registry or the operation of such vessel under the authority of a foreign country when the vessel's fishery endorsement has been revoked under the Secretary of Commerce's fishing capacity reduction program. The intended effect of this final rule is to clearly state in the regulation that approvals required under section 9(c)(2) of the 1916 Act will not be granted in the circumstances described.

DATES: The effective date of this rule is December 3, 2001.

FOR FURTHER INFORMATION CONTACT: Edmund T. Sommer, Jr., Chief, Division of General and International Law at (202) 366-5181. You may send mail to Mr. Sommer at Maritime Administration, Office of Chief Counsel, Room 7221, 400 Seventh Street, SW., Washington, DC 20590. An electronic version of this document is available on the World Wide Web at http://dms.dot.gov.

SUPPLEMENTARY INFORMATION:

Background

Pub. L. 106-554 requires the Secretary of Commerce to implement a fishing reduction program for crab fisheries included in the Fishery Management Plan for Commercial King and Tanner Crab Fisheries in the Bering Sea and Aleutian Islands. The Secretary of Commerce must notify the Secretary of Transportation which vessels are being removed from the fishery and request that the Secretary of Transportation revoke the vessel's fishery endorsement and refuse permission to transfer the vessel to a foreign flag.

Section 9 of the Shipping Act, 1916, as amended, (46 App. U.S.C. 808) governs the transfer of any documented vessel, or any vessel the last documentation of which was under the laws of the United States, to a foreign registry or operation of that vessel under the authority of a foreign country. This rulemaking amends the general approval granted under 46 CFR 221.15. We published a notice of proposed rulemaking (NPRM) on August 3, 2001 at 66 FR 40664). The NPRM proposed amendments to § 221.15 to state that approval to place under foreign registry or to operate under the authority of a foreign country a Fishing Vessel, Fish Processing Vessel, or Fish Tender Vessel that has had its fishery endorsement revoked pursuant to Appendix D of Pub. L. 106-554, 114 Stat 2763 will not be granted. This final rule mirrors the NPRM to which we received no public comments.

Plain Language

Executive Order 12866 requires each agency to write all rules in plain language. The Department of Transportation and MARAD are committed to plain language in government writing; therefore, we have written this final rule in plain language. Our goal is to provide a clear regulation.

Rulemaking Analyses and Notices

Executive Order 12866 and DOT Regulatory Policies and Procedures

We have reviewed this final rule under Executive Order 12866 and have determined that this is not a significant regulatory action. Additionally, this final rule is not likely to result in an annual effect on the economy of $100 million or more. The purpose of this final rule is to ensure that Fishing Vessels, Fish Processing Vessels, or Fish Tender Vessels who lose their fishery endorsement in the Fishery Management Plan for Commercial King and Tanner Crab Fisheries in the Bering Sea and Aleutian Islands will not operate under foreign flag or under the authority of a foreign country.

This final rule is also not significant under the Regulatory Policies and Procedures of the Department of Transportation (44 FR 11034, February 26, 1979). The costs and benefits associated with this rulemaking are considered to be so minimal that no further analysis is necessary. Because the economic impact, if any, should be minimal, further regulatory evaluation is not necessary.

Regulatory Flexibility Act

This Final rule will not have a significant economic impact on a substantial number of small entities. This Final rule only implements a statutory mandate to deny approval for a transfer of a vessel to a foreign registry or operation under authority of a foreign country when the vessel's fishery endorsement has been revoked. This rule does not impose a significant economic impact because owners of Fishing Vessels, Fish Processing Vessels, or Fish Tender Vessels who lose their fishery endorsement have been compensated through the crab fisheries buy-out program. Therefore, I certify that this final rule will not have a significant economic impact on a substantial number of small entities.

Federalism

We have analyzed this final rule in accordance with the principles and criteria contained in E.O. 13132 (“Federalism”) and have determined that it does not have sufficient federalism implications to warrant the preparation of a federalism summary impact statement. These regulations have no substantial effects on the States, or on the current Federal-State relationship, or on the current distribution of power and responsibilities among the various local officials. Therefore, consultation with State and local officials was not necessary.

Environmental Impact Statement

We have analyzed this final rule for purposes of compliance with the National Environmental Policy Act of 1969 (42 U.S.C. 4321 et seq.) and have concluded that under the categorical exclusions provision in section 4.05 of Maritime Administrative Order (“MAO”) 600-1, Procedures for Considering Environmental Impacts, 50 FR 11606 (March 22, 1985), the preparation of an Environmental Assessment, and an Environmental Impact Statement, or a Finding of No Significant Impact for this final rule is not required.

Executive Order 13175

MARAD does not believe that this final rule will significantly or uniquely affect the communities of Indian tribal governments when analyzed under the principles and criteria contained in Executive Order 13175 (“Consultation and Coordination with Indian Tribal Governments”). Therefore, the funding and consultation requirements of this Executive Order do not apply.

Unfunded Mandates Reform Act of 1995

This final rule does not impose an unfunded mandate under the Unfunded Mandates Reform Act of 1995. It does not result in costs of $100 million or more, in the aggregate, to any of the following: State, local, or Native American tribal governments, or the private sector. This final rule is the least burdensome alternative that achieves the objective of the rule.

Paperwork Reduction Act

This final rule does not contain information collection requirements.

Regulation Identifier Number (RIN)

The Department of Transportation assigns a regulation identifier number (RIN) to each regulatory action listed in the Unified Agenda of Federal Regulations. The Regulatory Information Service Center publishes the Unified Agenda in April and October of each year. The RIN number is contained in the heading of this document to cross-reference this action with the Unified Agenda.

List of Subjects in 46 CFR Part 221

Administrative practice and procedure, Maritime carriers, Mortgages, Penalties, Reporting and recordkeeping requirements, Trusts and trustees, Uniform system of accounts.

Accordingly, MARAD amends 46 CFR part 221 to read as follows:

PART 221—REGULATED TRANSACTIONS INVOLVING DOCUMENTED VESSELS AND OTHER MARITIME INTERESTS

1. The authority citation for part 221 continues to read as follows:

Authority: 46 App. U.S.C. 802, 803, 808, 835, 839, 841a, 1114(b), 1195; 46 U.S.C. chs. 301 and 313; 49 U.S.C. 336; 49 CFR 1.66. 2.

2. Section 221.15 is amended by adding introductory text to read as follows:

§ 221.15 Approval for transfer of registry or operation under authority of a foreign country or for scrapping in a foreign country.

In no case will approval be granted to place under foreign registry or to operate under the authority of a foreign country a Fishing Vessel, Fish Processing Vessel, or Fish Tender Vessel that has had its fishery endorsement revoked pursuant to Appendix D of Public Law 106-554, 114 Stat 2763. Subject to this exclusion, approval requests will be considered as set forth in this section.

* * * * *

Dated: October 30, 2001.
By order of the Acting Deputy Maritime Administrator.
Joel C. Richard,
Secretary, Maritime Administration.

[FR Doc. 01-27625 Filed 11-1-01; 8:45 am]

BILLING CODE 4910-81-P